ENVIRONMENTAL PROTECTION AGENCY

[EPA-HQ-OECA-2014-0055; FRL-9924-46-OEI]

Information Collection Request Submitted to OMB for Review and Approval; Comment Request; NESHAP for the Secondary Lead Smelter Industry (Renewal)

AGENCY: Environmental Protection Agency (EPA).

ACTION: Notice.

SUMMARY: The Environmental Protection Agency (EPA) has submitted an information collection request (ICR), “NESHAP for the Secondary Lead Smelter Industry (Renewal)” (EPA ICR No. 1686.10, OMB Control No. 2060-0296) to the Office of Management and Budget (OMB) for review and approval in accordance with the Paperwork Reduction Act (44 U.S.C. 3501 et seq.). This is a proposed extension of the ICR, which is currently approved through March 31, 2015. Public comments were previously requested via the Federal Register (79 FR 30117) on May 27, 2014 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before April 27, 2015.

ADDRESSES: Submit your comments, referencing Docket ID Number EPA-HQ-OECA-2014-0055, to (1) EPA online using www.regulations.gov (our preferred method), by email to docket.oeca@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Patrick Yellin, Monitoring, Assistance, and Media Programs Division, Office of Compliance, Mail Code 2227A, Environmental Protection Agency, 1200 Pennsylvania Ave. NW., Washington, DC 20460; telephone number: (202) 564-2970; fax number: (202) 564-0050; email address: yellin.patrick@epa.gov.

SUPPLEMENTARY INFORMATION: Supporting documents, which explain in detail the information that the EPA will be collecting, are available in the public docket for this ICR. The docket can be viewed online at www.regulations.gov or in person at the EPA Docket Center, EPA West, Room 3334, 1301 Constitution Ave. NW., Washington, DC. The telephone number for the Docket Center is 202-566-1744. For additional information about EPA's public docket, visit http://www.epa.gov/dockets.

Abstract: This standard applies to owners and operators of secondary lead smelter industry facilities. The provisions of this subpart apply to secondary lead smelters that use blast, reverberatory, rotary, or electric smelting furnaces to recover lead metal from scrap lead, primarily from used lead-acid automotive-type batteries. Consistent with the NESHAP General Provisions (40 CFR part 63, subpart A), owners and operators must comply with recordkeeping, monitoring and reporting requirements including control device parameter monitoring, conduct performance tests and submittal of initial and periodic reports such as semiannual compliance reports and an operation, maintenance and monitoring plan. The required semiannual reports are used to determine periods of excess emissions, identify problems at the facility, verify operation/maintenance procedures, and for compliance determinations.

Form Numbers: None.

Respondents/affected entities: Secondary lead smelters.

Respondent's obligation to respond: Mandatory (40 CFR Part 63, Subpart X).

Estimated number of respondents: 14 (total).

Frequency of response: Initially, occasionally, semiannually and annually.

Total estimated burden: 13,038 hours (per year). Burden is defined at 5 CFR 1320.3(b).

Total estimated cost: $1,651,633 (per year), includes $375,200 annualized capital or operation & maintenance costs.

Changes in the Estimates: There is a decrease of 7,499 hours in the total estimated respondent burden compared with the ICR currently approved by OMB. In this ICR renewal, we have made adjustments to reflect current rule requirements and remove duplicate items contained in previous ICRs. In addition, this ICR renewal reflects a decrease in the number of respondents from 16 to 14 due to facility closures.

Courtney Kerwin,
Acting Director, Collection Strategies Division.

[FR Doc. 2015-06913 Filed 3-25-15; 8:45 am]

BILLING CODE 6560-50-P